DEPARTMENT OF THE INTERIOR

Bureau of Land Management

[ID-320-1610 DP-050D]

Notice of Availability for the Draft Pocatello Resource Management Plan and Environmental Impact Statement, Idaho

AGENCY: Bureau of Land Management, Interior.

ACTION: Notice of availability.

SUMMARY: In accordance with the National Environmental Policy Act of 1969 (NEPA, 42 U.S.C. 4321 et seq.) and the Federal Land Policy and Management Act (FLPMA) of 1976 (43 U.S.C. 1701 et seq.), the Bureau of Land Management (BLM) has prepared a Draft Resource Management Plan/Environmental Impact Statement (Draft RMP/EIS) for the Pocatello Field Office and by this notice is announcing the opening of the public comment period.

DATES: To assure that they will be considered, BLM must receive written comments on the Draft RMP/EIS within 90 days following the date the Environmental Protection Agency publishes a notice of availability in the Federal Register. The BLM will announce future meetings or hearings and any other public involvement activities at least 15 days in advance through public notices, media news releases, and/or mailings.

ADDRESSES: You may submit comments on the Draft RMP/EIS by any of the following methods:

• Mail: Pocatello RMP Planning Team, Pocatello Field Office, Bureau of Land, Management, 4350 Cliffs Drive, Pocatello, Idaho 83204.

• E-mail: ID_Pocatello_RMP@blm.gov.

• Fax: 208-478-6376.

FOR FURTHER INFORMATION CONTACT: Terry Lee Smith, RMP Project Manager, 4350 Cliffs Drive, Pocatello, Idaho 83204, phone 208-478-6340, e-mail Terry_Lee_Smith@blm.gov.

SUPPLEMENTARY INFORMATION: The Draft RMP/EIS was developed with broad public participation through a collaborative planning process. This Draft RMP/EIS addresses management on approximately 613,800 acres of public land in the BLM Pocatello Field Office of the Idaho Falls District, in southeastern Idaho. The new RMP will replace the Malad Management Framework Plan (MFP), approved in 1981, and will revise the Pocatello RMP, approved in 1988.

The purpose of the RMP is to:

• Provide a single, comprehensive land use plan that will guide future management of the public lands and interests,

• Provide objectives, land use allocations, and management direction to maintain, improve, or restore resource conditions and provide for the economic needs of the local region,

• Address land use conflicts and new issues, and

• Provide management direction that identifies where and under what circumstances particular activities will be allowed on public lands while incorporating the mandate of multiple uses in accordance with FLPMA.

Four alternatives are analyzed in the draft RMP/EIS. Alternative A, the No Action Alternative, reflects the continuation of present management based upon existing land use plans and plan amendments. Alternative B emphasizes a moderate level of protection, restoration, enhancement, and use of resources and services to meet land use objectives by utilizing an array of adaptive and prescriptive measures that would be implemented to protect vegetation, and habitat, and promote the continuation of multiple resource management. Alternative C reflects management strategies to preserve and protect ecosystem health which emphasize active and specific measures to protect and enhance vegetation and habitat for special status species, fish, and wildlife. This alternative reflects a reduction in resource production goals for food, fiber, and minerals; and emphasizes restoring the sagebrush steppe, forest vegetation and riparian areas. Alternative D emphasizes management strategies to produce goods and services while maintaining or improving the production of, and providing protection for the sagebrush steppe, forest vegetation and riparian areas. Alternatives B and C include a 400-acre Area of Critical Environmental Concern (ACEC) designation known as Petticoat Peak to provide special protective management for native plants. Management constraints associated with this ACEC would include the following:

• The Off Highway Vehicle designation would be “Closed.”

• Wildland fire would be suppressed.

• Public lands would be retained.

• The area would be identified as an “Exclusion” area for Right of Ways.

• Fluid minerals would be leased with a “No Surface Occupancy” stipulation.

• If necessary, livestock grazing would be adjusted to maintain the values of the ACEC.

• A withdrawal for locatable minerals would be pursued.

• The area would be a priority for weed control.

The preferred alternative is Alternative B.

Comments, including names and street addresses of respondents, will be available for public review at the BLM Pocatello Field Office, in Pocatello, Idaho, during regular business hours, 7:45 a.m. to 4:30 p.m., Monday through Friday, except holidays, and may be published as part of the final EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

Copies of the Draft RMP/EIS are available upon request from the Pocatello Field Office, Bureau of Land Management, 4350 Cliffs Drive, Pocatello, Idaho 83204, phone 208-478-6340, or at http://www.id.blm.gov/planning/fmda/index.htm via the Internet.

Dated: August 22, 2006.
Bud C. Cribley,
Bureau of Land Management, Acting Idaho State Director.

Editorial Note: This document was received at the Office of the Federal Register on December 28, 2006.

[FR Doc. E6-22569 Filed 1-4-07; 8:45 am]

BILLING CODE 4310-GG-P